DEPARTMENT OF COMMERCE

International Trade Administration

[C-580-884]

Certain Hot-Rolled Steel Flat Products From the Republic of Korea: Final Results of Countervailing Duty Administrative Review, 2017

AGENCY: Enforcement and Compliance, International Trade Administration, U.S. Department of Commerce.

SUMMARY: The Department of Commerce (Commerce) determines that Hyundai Steel Co., Ltd. (Hyundai Steel), a producer/exporter of certain hot-rolled steel flat products (hot-rolled steel) from the Republic of Korea (Korea), received countervailable subsidies that are above de minimis. The period of review (POR) is January 1, 2017 through December 31, 2017.

DATES: Applicable October 9, 2020.

FOR FURTHER INFORMATION CONTACT: Emily Halle, AD/CVD Operations, Office V, Enforcement and Compliance, International Trade Administration, U.S. Department of Commerce, 1401 Constitution Avenue NW, Washington, DC 20230; telephone: (202) 482-0176.

SUPPLEMENTARY INFORMATION:

Background

Commerce published the Preliminary Results of this review on December 12, 2019.¹ In addition, Commerce issued a post-preliminary determination related to an upstream subsidy allegation on electricity on March 11, 2020.²

¹ See Certain Hot-Rolled Steel Flat Products from the Republic of Korea: Preliminary Results of Countervailing Duty Administrative Review, 2017, 84 FR 67927 (December 12, 2019) (Preliminary Results), and accompanying Preliminary Decision Memorandum.

² See Memorandum, “Post-Preliminary Analysis Memorandum—Upstream Subsidy on Electricity,” dated March 11, 2020.

On March 19, 2020, we postponed the final results of this review until June 9, 2020.³ On April 24, 2020, Commerce tolled all deadlines in administrative reviews by 50 days.⁴ On July 21, 2020, Commerce tolled all deadlines in administrative reviews by an additional 60 days, thereby extending the deadline for these final results until September 28, 2020.⁵ For a complete description of the events that occurred since the Preliminary Results, see the Issues and Decision Memorandum.⁶

³ See Memorandum, “Certain Hot-Rolled Steel Flat Products from the Republic of Korea: Extension of Deadline for Final Results of Countervailing Duty Administrative Review, 2017,” dated March 19, 2020.

⁴ See Memorandum to the Record from Jeffrey I. Kessler, Assistant Secretary for Enforcement and Compliance, “Tolling of Deadlines for Antidumping and Countervailing Duty Administrative Reviews in Response to Operational Adjustments Due to COVID-19,” dated April 24, 2020.

⁵ See Memorandum to the Record from Jeffrey I. Kessler, Assistant Secretary for Enforcement and Compliance, “Tolling of Deadlines for Antidumping and Countervailing Duty Administrative Reviews” dated July 21, 2020. All deadlines in this segment of the proceeding have been extended by an additional 60 days.

⁶ See Memorandum, “Issues and Decision Memorandum for the Final Results of the Administrative Review of the Countervailing Duty Order on Certain Hot-Rolled Steel Flat Products from the Republic of Korea; 2017,” dated concurrently with, and hereby adopted by, this notice (Issues and Decision Memorandum).

Scope of the Order

The products covered by this order are hot-rolled steel flat products. For a complete description of the scope of the order, see the Issues and Decision Memorandum.

Analysis of Comments Received

All issues raised in interested parties' briefs are addressed in the Issues and Decision Memorandum. A list of the issues raised by interested parties and to which we responded in the Issues and Decision Memorandum is provided in the Appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at http://enforcement.trade.gov/frn/index.html. The signed and the electronic versions of the Issues and Decision Memorandum are identical in content.

Changes Since the Preliminary Results

Based on the comments received from interested parties and record information, we have made changes to the subsidy calculations for Hyundai Steel. For a discussion of these issues, see the Issues and Decision Memorandum.

Methodology

Commerce is conducting this review in accordance with section 751(a)(l)(A) of the Tariff Act of 1930, as amended (the Act). For each of the subsidy programs found countervailable, we find that there is a subsidy, i.e., a financial contribution from a government or public entity that gives rise to a benefit to the recipient, and that the subsidy is specific.⁷ For a full description of the methodology underlying our conclusions, see the Issues and Decision Memorandum.

⁷ See sections 771(5)(B) and (D) of the Act regarding financial contribution; section 771(5)(E) of the Act regarding benefit; and section 771(5A) of the Act regarding specificity.

In making these findings, Commerce relied, in part, on facts available, pursuant to sections 776(a) and (b) of the Act. For further information, see “Use of Facts Otherwise Available” in the Issues and Decision Memorandum.

Final Results of Administrative Review

In accordance with section 751(a)(1)(A) of the Act and 19 CFR 351.221(b)(5), we determine the total estimated net countervailable subsidy rates for the period January 1, 2017 through December 31, 2017 to be as follows:

Company | Subsidy rate (percent ad valorem)
Hyundai Steel Co., Ltd | 0.51

Disclosure

Commerce will disclose the calculations performed for these final results within five days of the date of publication of this notice to parties in this proceeding, in accordance with 19 CFR 351.224(b).

Assessment Rate

In accordance with 19 CFR 351.212(b)(2), Commerce intends to issue appropriate assessment instructions to U.S. Customs and Border Protection (CBP) 15 days after publication of these final results. We will instruct CBP to liquidate shipments of subject merchandise produced and/or exported by Hyundai Steel, entered or withdrawn from warehouse for consumption from January 1, 2017 through December 31, 2017, at the ad valorem rate listed above.

Cash Deposit Requirements

In accordance with section 751(a)(2)(C) of the Act, we intend to instruct CBP to collect cash deposits of estimated countervailing duties, in the amount shown above, on shipments of subject merchandise entered, or withdrawn from warehouse, for consumption on or after the date of publication of the final results of this review. For all non-reviewed firms, CBP will continue to collect cash deposits of estimated countervailing duties at the most recent company-specific or all others rate applicable to the company, as appropriate. These cash deposit requirements, when imposed, shall remain in effect until further notice.

Administrative Protective Order

This notice also serves as a final reminder to parties subject to an administrative protective order (APO) of their responsibility concerning the return or destruction of proprietary information disclosed under APO in accordance with 19 CFR 351.305(a)(3), which continues to govern business proprietary information in this segment of proceeding. Timely written notification of the return/destruction of APO materials or conversion to judicial protective order is hereby requested. Failure to comply with the regulations and terms of an APO is a violation which is subject to sanction.

Notification to Interested Parties

These final results are issued and published in accordance with sections 751(a)(1) and 777(i)(1) of the Act and 19 CFR 351.221(b)(5).

Dated: September 28, 2020.
Jeffrey I. Kessler,
Assistant Secretary for Enforcement and Compliance.

Appendix

List of Topics Discussed in the Issues and Decision Memorandum

I. Summary

II. Background

III. Changes Since the Preliminary Results

IV. Scope of the Order

V. Period of Review

VI. Subsidies Valuation Information

VII. Use of Facts Otherwise Available

VIII. Analysis of Programs

IX. Discussion of Comments

Comment 1: Whether the Electricity for Less Than Adequate Remuneration Upstream Subsidy Allegation Confers a Benefit

Comment 2: Whether the Subsidy Rate for Industrial Technology Innovation Promotion Act Grants Was Improperly Calculated

Comment 3: Whether the Tax Programs Under the Restriction of Special Location Taxation Act and Restriction of Special Taxation Act Meet the Specificity Requirement

Comment 4: Whether the Trading of Demand Response Resources Program is Countervailable

Comment 5: Whether the Modal Shift Program Confers a Countervailable Benefit

Comment 6: Whether Commerce Correctly Measured the Benefit for Port Usage Rights at Incheon Harbor

Comment 7: Whether the Suncheon Harbor Usage Fee Exemptions Under the Harbor Act Are Countervailable

Comment 8: Whether Hyundai Green Power is Hyundai Steel's Cross-Owned Input Supplier and Received Countervailable Benefits

X. Recommendation

[FR Doc. 2020-22433 Filed 10-8-20; 8:45 am]

BILLING CODE 3510-DS-P